DEPARTMENT OF THE INTERIOR

Bureau of Land Management

[LLCA942000 L57000000.BX0000 15X L5017AR]

Filing of Plats of Survey: California

AGENCY: Bureau of Land Management, Interior.

ACTION: Notice.

SUMMARY: The plats of survey of lands described below are scheduled to be officially filed in the Bureau of Land Management, California State Office, Sacramento, California.

DATES: August 8, 2016.

ADDRESSES: A copy of the plats may be obtained from the California State Office, Bureau of Land Management, 2800 Cottage Way, Sacramento, California 95825, upon required payment.

FOR FURTHER INFORMATION CONTACT: Chief, Branch of Geographic Services, Bureau of Land Management, California State Office, 2800 Cottage Way W-1623, Sacramento, California 95825, 1-916-978-4310. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A person or party who wishes to protest a survey must file a notice that they wish to protest with the Chief, Branch of Geographic Services. A statement of reasons for a protest may be filed with the notice of protest and must be filed with the Chief, Branch of Geographic Services within thirty days after the protest is filed. If a protest against the survey is received prior to the date of official filing, the filing will be stayed pending consideration of the protest. A plat will not be officially filed until the day after all protests have been dismissed or otherwise resolved. Before including your address, phone number, email address, or other personal identifying information in your comment, you should be aware that your entire comment—including your personal identifying information—may be made publicly available at any time. While you can ask us in your comment to withhold your personal identifying information from public review, we cannot guarantee that we will be able to do so.

Mount Diablo Meridian, California

T. 33 N., R. 5 W., the dependent resurvey of a portion of the subdivisional lines, the subdivision of sections 25 and 26, and the metes-and-bounds survey of Tract 37 and certain lots in section 25, accepted June 6, 2016.

San Bernardino Meridian, California

T. 3 N., R. 26 E., the dependent resurvey of a portion of the east boundary and a portion of the subdivisional lines, the subdivision of section 13, and the survey of the meanders of the full-pool line of a portion of Lake Havasu Reservoir, accepted March 9, 2016.

T. 3 N., R. 27 E., the dependent resurvey of a portion of the subdivisional lines, the subdivision of section 18, and the survey of the meanders of the full-pool line of a portion of Lake Havasu Reservoir, accepted March 9, 2016.

T. 3 S., R. 2 E., the supplemental plat showing parcels 1 through 6 of Tract 9 in section 6, accepted March 28, 2016.

T. 9 N., R. 23 E., the supplemental plat showing a corrected distance measurement on the west boundary of Lot 6 in the NW. ¼ of the NE. ¼ of section 31, accepted April 11, 2016.

T. 10 N., R. 4 E., the dependent resurvey of a portion of the subdivisional lines and a portion of the Camp Cady Military Reservation boundary and the subdivision of section 20, accepted June 21, 2016.

Authority: 43 U.S.C., chapter 3.

Dated: June 22, 2016.
Jon L. Kehler,
(Acting) Chief Cadastral Surveyor, California.

[FR Doc. 2016-16081 Filed 7-6-16; 8:45 am]

BILLING CODE 4310-40-P